SMALL BUSINESS ADMINISTRATION

[Disaster Declaration #11338 and #11339]

Ohio Disaster #OH-00014

AGENCY: U.S. Small Business Administration.

ACTION: Notice.

SUMMARY: This is a notice of an Administrative declaration of a disaster for the State of Ohio dated 07/23/2008.

Incident: Apartment Building Fire.

Incident Period: 07/05/2008.

EFFECTIVE DATE: 07/23/2008.

Physical Loan Application Deadline Date: 09/22/2008.

Economic Injury (EIDL) Loan Application Deadline Date: 04/23/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Lucas.

Contiguous Counties:

Ohio: Fulton, Henry, Ottawa, Wood.

Michigan: Lenawee, Monroe.

| Percent
The Interest Rates are:
Homeowners with Credit Available Elsewhere | 5.375
Homeowners without Credit Available Elsewhere | 2.687
Businesses with Credit Available Elsewhere | 8.000
Businesses & Small Agricultural Cooperatives without Credit Available Elsewhere | 4.000
Other (Including Non-Profit Organizations) with Credit Available Elsewhere | 5.250
Businesses and Non-Profit Organizations without Credit Available Elsewhere | 4.000

The number assigned to this disaster for physical damage is 11338 5 and for economic injury is 11339 0.

The States which received an EIDL Declaration # are Ohio, Michigan.

(Catalog of Federal Domestic Assistance Numbers 59002 and 59008)

July 23, 2008.
Jovita Carranza,
Acting Administrator.

[FR Doc. E8-17771 Filed 8-1-08; 8:45 am]

BILLING CODE 8025-01-P